COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products to the Procurement List that will be furnished by nonprofit agencies employing persons who are blind or have other severe disabilities, and deletes products previously furnished by such agencies.

DATES: Comments must be received on or before January 8, 2017.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

Products

NSN(s)—Product Name(s): MR 357—Tumblers, Red, White and Blue, Includes Shipper 10357

Mandatory Source(s) of Supply: Industries for the Blind, Inc., Milwaukee, WI

Mandatory Purchase For: The requirements of military commissaries and exchanges in accordance with the Code of Federal Regulations, Chapter 51, 51-6.4

Contracting Activity: Defense Commissary Agency

Distribution: C-List

NSN(s)—Product Name(s): 6645-01-NIB-0153—Clock, LCD Digital Display, Radio-Controlled, Silver, 9.75″ x 7.25″ x 1″

Mandatory Source(s) of Supply: Chicago Lighthouse Industries, Chicago, IL

Mandatory Purchase For: Total Government Requirement

Contracting Activity: General Services Administration, New York, NY

Distribution: A-List

NSN(s)—Product Name(s): 6840-01-523-9645—Kit, Hydration Bladder Cleaning

Mandatory Source(s) of Supply: The Lighthouse for the Blind, Inc. (Seattle Lighthouse), Seattle, WA

Mandatory Purchase For: 100% of the requirement of the U.S. Army

Contracting Activity: Dept of the Army, W6QK ACC-APG NATICK

Distribution: C-List

NSN(s)—Product Name(s):

6515-00-NIB-0571—Glove, Exam, Nitrile, Non-Latex, Textured, Midknight, Black, Small

6515-00-NIB-0572—Glove, Exam, Nitrile, Non-Latex, Textured, Midknight, Black, Medium

6515-00-NIB-0573—Glove, Exam, Nitrile, Non-Latex, Textured, Midknight, Black, Large

6515-00-NIB-0574—Glove, Exam, Nitrile, Non-Latex, Textured, Midknight, Black, X-Large

6515-00-NIB-8229—Glove, Vinyl, Powder-Free, Evolution One, Natural Color, X-Small

6515-00-NIB-8230—Glove, Vinyl, Powder-Free, Evolution One, Natural Color, Small

6515-00-NIB-8231—Glove, Vinyl, Powder-Free, Evolution One, Natural Color, Medium

6515-00-NIB-8232—Glove, Vinyl, Powder-Free, Evolution One, Natural Color, Large

6515-00-NIB-8233—Glove, Vinyl, Powder-Free, Evolution One, Natural Color, X-Large

6515-00-NIB-8235—Glove, Exam, Nitrile, Non-Latex, Textured, Midknight, Black, X-Small

Mandatory Source(s) of Supply: Central Association for the Blind & Visually Impaired, Utica, NY

Contracting Activity: Dept of Justice, Federal Bureau of Investigation

Distribution: C-List

Deletions

The following products are proposed for deletion from the Procurement List:

Products

NSN(s)—Product Name(s): 7510-00-272-9804—Envelope, Transparent, 6½″ x 10½″, Clear Plastic, Job Ticket Holder

Mandatory Source(s) of Supply: UNKNOWN

Contracting Activity: General Services Administration, New York, NY

NSN(s)—Product Name(s): 6910-04-000-4482—Chalkboard; 6910-04-000-4485—Chalkboard

Mandatory Source(s) of Supply: Tuscola County Community Mental Health Authority, Caro, MI

Contracting Activity: USPS, Topeka Purchasing Center

NSN(s)—Product Name(s): 2540-00-591-1108—Seat, Vehicular

Mandatory Source(s) of Supply: Tuscola County Community Mental Health Authority, Caro, MI

Contracting Activity: Defense Logistics Agency Land and Maritime

NSN(s)—Product Name(s): 2510-00-179-7093—Side Rack, Vehicle; 2510-00-590-9734—Side Rack, Vehicle Body

Mandatory Source(s) of Supply: Tuscola County Community Mental Health Authority, Caro, MI

Contracting Activity: W4GG HQ US Army TACOM

Patricia Briscoe;
Deputy Director, Business Operations Pricing and Information Management.

[FR Doc. 2016-29577 Filed 12-8-16; 8:45 am]

BILLING CODE 6353-01-P